DEPARTMENT OF ENERGY

Federal Energy Regulatory Commission

Combined Notice of Filings #1

Take notice that the Commission received the following electric rate filings:

Docket Numbers: ER07-956-005.

Applicants: Entergy Services, Inc.

Description: Compliance Filing of Entergy Services, Inc.

Filed Date: 6/6/12.

Accession Number: 20120606-5175.

Comments Due: 5 p.m. ET 6/27/12.

Docket Numbers: ER12-1633-002.

Applicants: U.S. Energy Partners, LLC.

Description: U.S. Energy Amendment to Baseline Filing to be effective 6/6/2012.

Filed Date: 6/6/12.

Accession Number: 20120606-5134.

Comments Due: 5 p.m. ET 6/27/12.

Docket Numbers: ER12-1950-001.

Applicants: Entergy Texas, Inc.

Description: ER12-1950 ETEC Agrmt #199 Errata to be effective 8/1/2012.

Filed Date: 6/6/12.

Accession Number: 20120606-5142.

Comments Due: 5 p.m. ET 6/27/12.

Docket Numbers: ER12-1952-001.

Applicants: Entergy Texas, Inc.

Description: ER12-1952 ETEC Agrmt #200 Errata to be effective 8/1/2012.

Filed Date: 6/6/12.

Accession Number: 20120606-5143.

Comments Due: 5 p.m. ET 6/27/12.

Docket Numbers: ER12-1968-000.

Applicants: Pacific Gas and Electric Company.

Description: Unexecuted WDT SGIA for Acciona Solar Energy LLC's Lakeview Solar One Project to be effective 8/9/2012 under ER12-1968.

Filed Date: 6/6/12.

Accession Number: 20120606-5126.

Comments Due: 5 p.m. ET 6/27/12.

Docket Numbers: ER12-1969-000.

Applicants: PJM Interconnection, L.L.C.

Description: Notice of Cancellation of Service Agreement No. 2788 in Docket No. ER11-3083-000 to be effective 5/7/2012.

Filed Date: 6/6/12.

Accession Number: 20120606-5133.

Comments Due: 5 p.m. ET 6/27/12.

Docket Numbers: ER12-1970-000.

Applicants: Southwestern Public Service Company.

Description: 6-6-12_RS139-144 SPS-NM Coop Agrmts to be effective 6/1/2012.

Filed Date: 6/6/12.

Accession Number: 20120606-5147.

Comments Due: 5 p.m. ET 6/27/12.

Docket Numbers: ER12-1971-000.

Applicants: Nevada Power Company.

Description: Rate Schedule No. 129 Cost Reimbursement Letter Agreement—Valley Electric to be effective 6/5/2012.

Filed Date: 6/6/12.

Accession Number: 20120606-5149.

Comments Due: 5 p.m. ET 6/27/12.

Docket Numbers: ER12-1972-000.

Applicants: California Independent System Operator Corporation.

Description: 2012-06-06 CAISO's 7-Day Advanced Outage Reporting Amendment to be effective 8/5/2012.

Filed Date: 6/6/12.

Accession Number: 20120606-5161.

Comments Due: 5 p.m. ET 6/27/12.

Docket Numbers: ER12-1973-000.

Applicants: New England States Committee on Electricity.

Description: Informational Filing of New England States Committee on Electricity regarding its 5-year pro forma budget framework.

Filed Date: 6/1/12.

Accession Number: 20120601-5376.

Comments Due: 5 p.m. ET 6/22/12.

Take notice that the Commission received the following electric securities filings:

Docket Numbers: ES12-40-000.

Applicants: Michigan Electric Transmission Company, LLC.

Description: Michigan Electric Transmission Company, LLC Response to the Commission's Request for Reference to a Publication.

Filed Date: 6/6/12.

Accession Number: 20120606-5062.

Comments Due: 5 p.m. ET 6/18/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 7, 2012.
Nathaniel J. Davis, Sr.,
Deputy Secretary.

[FR Doc. 2012-15138 Filed 6-20-12; 8:45 am]

BILLING CODE 6717-01-P